DEPARTMENT OF HEALTH AND HUMAN SERVICES

Centers for Disease Control and Prevention

[60Day-06-06BL]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the HIV Testing Social Marketing Campaign (HTSMC)—New—National Center for HIV/AIDS, Viral Hepatitis, STD, and TB Prevention (NCHHSTP), Coordinating Center for Infectious Diseases (CCID), Centers for Disease Control and Prevention (CDC).

Background and Brief Description

This project involves the evaluation of the HIV Testing Social Marketing Campaign (HTSMC), a CDC-sponsored social marketing campaign aimed at increasing HIV testing rates among young, single, African American women. The CDC has designed an efficacy study to evaluate the HTSMC and its messages under controlled conditions. The study entails selecting a sample of single African American females, ages 18 to 34, with less than 4 years of college education and collecting baseline data on their knowledge, attitudes, beliefs, intentions, and behaviors related to HIV testing. The study represents an “efficacy” methodology in that participants will be divided into treatment and control conditions. Participants in the treatment condition, will be exposed to campaign materials including radio advertisements, a billboard, and an informational booklet that will be distributed over the Internet. Thus the study participants' exposure will occur under controlled conditions, without the distractions and variability of potential exposure in the real world. As part of the advertisement stimuli package, the billboard advertisement will appear as part of the online log-in for each stimuli session in order to simulate the appearance of a sign. Therefore, we do not estimate any additional burden for exposure to the billboard advertisement.

Key outcomes related to the HTSMC will be measured in two follow-up surveys. The first follow-up survey will occur 2 weeks after the baseline survey. The second follow-up survey will occur 6 weeks after the baseline survey. Comparisons of changes in these outcomes would then be made between participants in the treatment and control conditions. Findings from this study will be used by CDC and its partners to inform current and future program activities.

We expect a total of 1,630 participants to complete the baseline survey. The 1,630 participants who complete the baseline survey will be randomly assigned to the treatment or control condition. 815 participants (the treatment condition) will be exposed to the radio ad and booklet. Of the 1,630 participants who completed the baseline survey, we expect 1,140 to complete the first follow-up survey. Of the 1,140 who complete the first follow-up survey, we expect 800 to complete the second follow-up survey, which will have fewer questions than the first follow-up survey because it will only pertain to questions about behavior change and selected behavioral intentions.

There are no costs to the respondents other than their time.

Estimated Annualized Burden Hours
Respondents | Number of respondents | Responses per respondent | Average burden per response (in hours) | Total burden hours
Baseline survey | 1,630 | 1 | 15/60 | 408
Radio ad stimuli viewing | 815 | 1 | 18/60 | 245
Booklet reading | 815 | 1 | 15/60 | 204
Follow-up survey 1 | 1,140 | 1 | 15/60 | 285
Follow-up survey 2 | 800 | 1 | 5/60 | 67
Total |  |  |  | 1,209

Dated: July 10, 2006.
Joan F. Karr,
Acting Reports Clearance Officer, Centers for Disease Control and Prevention.

[FR Doc. E6-11340 Filed 7-17-06; 8:45 am]

BILLING CODE 4163-18-P